GENERAL SERVICES ADMINISTRATION

48 CFR Parts 501, 516, 538 and 552

[GSAR Case 2013-G504; Docket 2014-0020; Sequence 1]

RIN 3090-AJ51

General Services Administration Acquisition Regulation (GSAR); Transactional Data Reporting; Extension of Time for Comments

AGENCY: Office of Acquisition Policy, General Services Administration.

ACTION: Proposed rule; extension of comment period.

SUMMARY: The General Services Administration (GSA) issued a proposed rule on March 4, 2015, amending the General Services Administration Acquisition Regulation (GSAR) to include clauses that would require vendors to report transactional data from orders and prices paid by ordering activities. This includes orders placed against both Federal Supply Schedule (FSS) contract vehicles and GSA's non-FSS contract vehicles—Government-wide Acquisition Contracts (GWACs) and Government-wide Indefinite-Delivery, Indefinite-Quality (IDIQ) contracts. For FSS vehicles, the clause would be introduced in phases, beginning with a pilot for select products and commoditized services. The new clause will be paired with changes to the basis of award monitoring requirement of the existing price reductions clause, resulting in a burden reduction for participating FSS contractors. This rulemaking does not apply to the Department of Veterans Affairs (VA) FSS contract holders. The comment period is being extended to provide additional time for interested parties to provide comments for GSAR Case 2013-G504, Transactional Data Reporting, to May 11, 2015.

DATES: For the proposed rule published on March 4, 2015 (80 FR 11619), submit comments by May 11, 2015.

ADDRESSES: Submit comments in response to GSAR Case 2013-G504 by any of the following methods:

• Regulations.gov: http://www.regulations.gov. Submit comments by searching for “GSAR Case 2013-G504”. Select the link “Comment Now” and follow the instructions provided at the “You are commenting on” screen. Please include your name, company name (if any), and “GSAR Case 2013-G504”, on your attached document.

• Mail: General Services Administration, Regulatory Secretariat Division (MVCB), 1800 F Street NW., 2nd Floor, ATTN: Ms. Flowers, Washington, DC 20405-0001.

Instructions: Please submit comments only and cite GSAR Case 2013-G504 in all correspondence related to this case. All comments received will be posted without change to http://www.regulations.gov, including any personal and/or business confidential information provided.

FOR FURTHER INFORMATION CONTACT: Ms. Dana Munson, General Services Acquisition Policy Division, GSA, at 202-357-9652, or Mr. Matthew McFarland, General Services Acquisition Policy Division, GSA, at 202-690-9232, or email gsar@gsa.gov for clarification of content. For information pertaining to status or publication schedules, contact the Regulatory Secretariat Division at 202-501-4755. Please cite GSAR Case 2013-G504.

SUPPLEMENTARY INFORMATION:

Background

GSA published a proposed rule in the Federal Register at 80 FR 11619, March 4, 2015. The comment period is extended to provide additional time for interested parties to submit comments on the GSAR case until May 11, 2015.

List of Subjects in 48 CFR Parts 501, 516, 538, and 552

Government procurement.

Dated: April 30, 2015.
Jeffrey A. Koses,
Senior Procurement Executive, Office of Acquisition Policy, Office of Government-wide Policy.

[FR Doc. 2015-10637 Filed 5-5-15; 8:45 am]

BILLING CODE 6820-61-P